DEPARTMENT OF HEALTH AND HUMAN SERVICES

Meeting of the Pain Management Best Practices Inter-Agency Task Force

AGENCY: Office of the Assistant Secretary for Health, Office of the Secretary, Department of Health and Human Services.

ACTION: Notice.

SUMMARY: As stipulated by the Federal Advisory Committee Act, the Department of Health and Human Services (HHS) is hereby giving notice that a meeting is scheduled to be held for the Pain Management Best Practices Inter-Agency Task Force (Task Force). The meeting will be open to the public; public comment sessions will be held during the meeting.

DATES: The inaugural meeting will be held on Wednesday, May 30, 2018, from 9:30 a.m. to 5:00 p.m. Eastern Time and Thursday, May 31, 2018, from 9:00 a.m. to 3:30 p.m. Eastern Time The agenda will be posted on the Task Force website at https://www.hhs.gov/ash/advisory-committees/pain/index.html.

ADDRESSES: U.S. Department of Health and Human Services, Hubert H. Humphrey Building, Great Hall, 200 Independence Avenue SW, Washington, DC 20201.

FOR FURTHER INFORMATION CONTACT: Alicia Richmond Scott, Designated Federal Officer, Pain Management Best Practices Inter-Agency Task Force, U.S. Department of Health and Human Services, Office of the Assistant Secretary for Health, 200 Independence Avenue SW, Room 736E, Washington, DC 20201. Email: paintaskforce@hhs.gov.

SUPPLEMENTARY INFORMATION: Section 101 of the Comprehensive Addiction and Recovery Act of 2016 (CARA) authorizes the Secretary of Health and Human Services, in cooperation with the Secretaries of Defense and Veterans Affairs, to convene the Task Force no later than two years after the date of the enactment of CARA (by July 22, 2018) and develop a report to Congress with updates on best practices and recommendations on addressing gaps or inconsistencies for pain management, including chronic and acute pain. The Task Force is governed by the provisions of the Federal Advisory Committee Act (FACA), Public Law 92-463, as amended (5 U.S.C. App), which sets forth standards for the formation and use of advisory committees.

The Task Force will identify, review, and determine whether there are gaps or inconsistencies between best practices for pain management, including chronic and acute pain, developed or adopted by federal agencies; propose updates to best practices and recommendations on addressing identified gaps or inconsistencies; provide the public with an opportunity to comment on any proposed updates and recommendations; and develop a strategy for disseminating such proposed updates and recommendations to relevant federal agencies and the general public.

This inaugural meeting of the Task Force will consist of an overview of various topics surrounding pain management, and the establishment of the Task Force subcommittee structure. Federal, state, local, and professional medical and health organization representatives will provide their current perspectives on pain management. The Task Force will discuss clinical best practices, gaps and inconsistencies focused on prevention and treatment; mental health and addiction; special populations; education; providers; payors; service and delivery; and research and innovation. Personal testimonials of people living in pain will be given. The Task Force will deliberate and vote on establishing subcommittees for developing the report to Congress. Information about the final meeting agenda will be posted prior to the meeting on the Task Force website: https://www.hhs.gov/ash/advisory-committees/pain/index.html.

Members of the public are invited to participate in person or by webcast. To join the meeting, individuals must pre-register at the Task Force website at https://www.hhs.gov/ash/advisory-committees/pain/index.html. Seating will be provided first to those who have pre-registered. Anyone who has not pre-registered will be accommodated on a first come, first served basis if additional seats are available 10 minutes before the meeting starts. Individuals who need special assistance, such as sign language interpretation or other reasonable accommodations, should indicate the special accommodation when registering online or by notifying the Office of the Assistant Secretary for Health via email at paintaskforce@hhs.gov by May 22, 2018. The subject line of the email should read, “Task Force Meeting Accommodations.” Non-U.S. citizens who plan to attend in person are required to provide additional information and must notify the Task Force staff via email at paintaskforce@hhs.gov 10 business days before the meeting, May 16, 2018. For those unable to attend in person, a live webcast will be available. More information on registration and accessing the webcast can be found at https://www.hhs.gov/ash/advisory-committees/pain/index.html.

Members of the public can provide comments at the Task Force meeting during the following designated dates and times: May 30, 2018 from 11:40 a.m. to 12:10 p.m. Eastern Time and May 31, 2018 from 1:50 p.m. to 2:20 p.m. Eastern Time. Public comments made during the meeting will be limited to three minutes per person to ensure time is allotted for all those wishing to speak. Individuals are also welcome to submit their written comments. Written comments should not exceed three pages in length. Individuals submitting written comments should submit their comments through the Federal eRulemaking Portal at http://www.regulations.gov by May 25, 2018.

Dated: April 26, 2018.
Vanila M. Singh,
Chief Medical Officer, Office of the Assistant Secretary for Health.

[FR Doc. 2018-09379 Filed 5-2-18; 8:45 am]

BILLING CODE 4150-28-P